DEPARTMENT OF DEFENSE

Office of the Secretary

Submission for OMB Review; Comment Request

ACTION: Notice.

SUMMARY: The Department of Defense has submitted to OMB for clearance, the following proposal for collection of information under the provisions of the Paperwork Reduction Act (44 U.S.C. chapter 35).

DATES: Consideration will be given to all comments received by September 12, 2003.

Title, Form, and OMB Number: Physician Certificate for Child Annuitant; DD Form 2828; OMB Number 0730-0011.

Type of Request: Revision.

Number of Respondents: 120.

Responses per Respondent: 1.

Annual Responses: 120.

Average Burden Per Response: 2 hours.

Annual Burden Hours: 240.

Needs and Uses: This form is required and must be on file to support an incapacitation occurring prior to age 18. The form provides authority for the Directorate of Annuity Pay, Defense Finance and Accounting Service, Cleveland (DFAS-CL/PD) to establish and pay a Retired Serviceman's Family Protection Plan (RSFPP) or Survivor Benefit Plan (SBP) annuity to the incapacitated individual. Respondents are incapacitated child annuitants, and/or their legal guardians, custodians, and legal representatives. When the form is completed, it will serve as a medical report to substantiate a child's incapacity.

Affected Public: Individuals or Households.

Frequency: On occasion.

Respondent's Obligation: Required to obtain or retain benefits.

OMB Desk Officer: Ms. Jackie Zeiher.

Written comments and recommendations on the proposed information collection should be sent to Ms. Zeiher at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: August 5, 2003.
Patricia L. Toppings,
Alternate OSD Federal Register Liaison Officer, Department of Defense.

[FR Doc. 03-20576 Filed 8-12-03; 8:45 am]

BILLING CODE 5011-08-M